OFFICE OF PERSONNEL MANAGEMENT

5 CFR Parts 581 and 582

RIN 3206-AI91

Processing Garnishment Orders for Child Support and/or Alimony and Commercial Garnishment of Federal Employees' Pay

AGENCY: Office of Personnel Management.

ACTION: Final rule.

SUMMARY: The Office of Personnel Management (OPM) is amending the list of designated agents to accept legal process for child support and alimony, and list of designated agents to accept commercial garnishment orders.

EFFECTIVE DATE: March 2, 2000.

FOR FURTHER INFORMATION CONTACT: Murray M. Meeker, Senior Attorney, Office of the General Counsel, (202) 606-1700.

SUPPLEMENTARY INFORMATION: On October 22, 1998 (63 FR 56537), OPM corrected errors that appeared in the list of agents designated to accept legal process for child support and alimony (Appendix A to Part 581) that were published on March 26, 1998 (63 FR 14756). This document makes additional amendments to the designated agent listings in this appendix. In addition, at the request of the Defense Finance and Accounting Service, OPM is amending the list of designated agents in Appendix A to 5 CFR Part 582 to remove the listing for the Army Corps of Engineers.

Waiver of General Notice of Proposed Rulemaking

Under section 553(b)(3)(B) of title 5, United States Code, I find that good cause exists for waiving the general notice of proposed rulemaking. As provided under section 553(b)(3)(B), general notice may be waived where it is unnecessary as is the case where the lists of designated agents in the appendices to 5 CFR Parts 581 and 582 are revised.

Executive Order 12866, Regulatory Review

In accordance with Executive Order 12866, this rule has been reviewed by the Office of Management and Budget.

Regulatory Flexibility Act

I certify that these regulations will not have significant economic impact on a substantial number of small entities because their effects are limited to Federal employees and their creditors.

List of Subjects in 5 CFR Parts 581 and 582

Alimony, Child support, Claims, Government employees, and Wages.

U.S. Office of Personnel Management.
Janice R. Lachance,
Director.

Accordingly, OPM is amending parts 581 and 582 of Title 5, Code of Federal Regulations, as follows:

PART 581—PROCESSING GARNISHMENT ORDERS FOR CHILD SUPPORT AND ALIMONY

1. The authority citation for part 581 continues to read as follows:

Authority: 42 U.S.C. 659; 15 U.S.C. 1673; E.O. 12105 (43 FR 59465 and 3 CFR 262).

2. Appendix A to part 581 is amended as follows:

A. In I Departments under Department of Agriculture:

i. The listing for Food Safety is removed;

ii. The listing for Food Safety and Inspection Service is revised;

iii. The note is removed;

iv. The listing for Forest Service, Region 6, Oregon, Mt. Hood National Forest, is revised;

B. In II. Agencies:

i. The listing for the Harry S. Truman Scholarship Foundation is added;

ii. The listing for the Presidio Trust is added. The additions and revisions to Appendix A read as follows.

Appendix A to Part 581—List of Agents Designated to Accept Legal Process

* * * * *

I. Departments

Department of Agriculture

* * * * *

Food Safety and Inspection Service

Chief, Employee Relations Branch, Labor and Employee Relations Division, Food Safety and Inspection Service, Room 3175 South Building, 14th & Independence Avenue, SW., Washington, DC 20250-3700, 1-800-217-1886

* * * * *

Mt. Hood—Forest Supervisor, 16400 Champion Way, Sandy, OR 97055, (503) 668-1613

II. Agencies

* * * * *

Harry S. Truman Scholarship Foundation

Chief, Payroll Operations Division, Attention: Mail Code 2640, National Business Center, Department of the Interior, P.O. Box 272030, Denver, CO 80227-9030, (303) 969-7739

* * * * *

Presidio Trust

Chief, Payroll Operations Division, Attention: Mail Code 2640, National Business Center, Department of the Interior, P.O. Box 272030, Denver, CO, 80227-9030, (303) 969-7739

PART 582—COMMERCIAL GARNISHMENT OF FEDERAL EMPLOYEES' PAY

3. The authority citation for part 582 continues to read as follows:

Authority: 5 U.S.C. 5520a; 15 U.S.C. 1673; E.O. 12897.

Appendix A [Amended]

4. In appendix A, the listing for the Army Corps of Engineers is removed.

[FR Doc. 00-2115 Filed 1-31-00; 8:45 am]

BILLING CODE: 6325-01-P